DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. *Elevation in feet (NGVD) •Elevation in feet (NAVD)
PENNSYLVANIA
Lancaster County (FEMA Docket No. D-7594)
Conoy Creek:
Approximately 1,850 feet upstream of State Route 241 | •398
Approximately 4,350 feet upstream of State Route 241 | •406
Township of West Donegal
Chiques Creek:
Approximately 1,350 feet upstream of Kinderhook Road | •295
Approximately 600 feet downstream of State Route 72 | •438
Townships of Rapho, East Hempfield, West Hempfield, Penn
Cocalico Creek:
Approximately 400 feet downstream of Disston View Road | •300
Approximately 150 feet downstream of Pennsylvania Turnpike | •394
Townships of Warwick, East Cocalico, West Cocalico
Little Cocalico Creek:
Approximately 800 feet downstream of Pennsylvania Turnpike | •390
Approximately 200 feet downstream of Pennsylvania Turnpike | •390
Township of East Cocalico
Little Chiques Creek:
Approximately 300 feet downstream of Mount Joy Road | •326
Just downstream of Milton Grove Road | •351
Township of Mount Joy
Conestoga River:
Approximately 10,100 feet upstream of Stehman Road | •227
Approximately 3,200 feet upstream of U.S. Route 322 | •333
Borough of Millersville, Townships of Ephrata, Upper Leacock
Mill Creek:
Approximately 4,500 feet downstream of Park Drive | •261
Approximately 450 feet downstream of T-763 | •458
City of Lancaster, Township of Earl
Pequea Creek:
Approximately 3,700 feet downstream of Rawlinsville Road | •279
Approximately 450 feet downstream of U.S. Route 30 | •346
Townships of Providence, Leacock, Pequea, East Lampeter, West Lampeter, Paradise
Beaver Creek:
Approximately 325 feet downstream of North Church Street | •455
Approximately 250 feet downstream of North Church Street | •456
Township of Eden
West Branch Octorano Creek:
Approximately 3,900 feet downstream of Mount Pleasant Road | •497
Approximately 3,800 feet downstream of Mount Pleasant Road | •497
Township of Colerain
Lees Creek:
Approximately 480 feet downstream of Willow Street | •456
Approximately 420 feet downstream of Willow Street | •457
Township of Brecknock
Tributary No. 1 to Conestoga River:
Just upstream of Barbara Street | •281
Approximately 610 feet upstream of Barbara Street | •289
Borough of Millersville
Little Conestoga Creek:
Approximately 3,050 feet upstream of Millersville Road | •278
Approximately 3,350 feet upstream of Millersville Road | •278
Township of Brecknock
Maps available for inspection at the Brecknock Township Office, 1026 Dry Tavern Road, Denver, Pennsylvania.
Township of Colerain
Maps available for inspection at the Colerain Township Office, 1803 Kirkwood Pike, Kirkwood, Pennsylvania.
Township of Earl
Maps available for inspection at the Earl Township Office, 517 North Railroad Avenue, New Holland, Pennsylvania.
Township of East Cocalico
Maps available for inspection at the East Cocalico Township Office, 100 Hill Road, Denver, Pennsylvania.
Township of East Hempfield
Maps available for inspection at the East Hempfield Township Office, 1700 Nissley Road, Landisville, Pennsylvania.
Township of East Lampeter
Maps available for inspection at the East Lampeter Township Office, 2205 Old Philadelphia Pike, Lancaster, Pennsylvania.
Township of Eden
Maps available for inspection at the Eden Township Office, 489 Stony Hill Road, Quarryville, Pennsylvania.
Township of Ephrata
Maps available for inspection at the Ephrata Township Office, 265 Akron Road, Ephrata, Pennsylvania.
City of Lancaster
Maps available for inspection at the Lancaster City Office, 120 North Duke Street, Lancaster, Pennsylvania.
Township of Leacock
Maps available for inspection at the Leacock Township Office, 3545 West Newport Road, Intercourse, Pennsylvania.
Borough of Millersville
Maps available for inspection at the Millersville Borough Office, 10 Colonial Avenue, Millersville, Pennsylvania.
Township of Mount Joy
Maps available for inspection at the Mount Joy Township Office, 159 Merts Drive, Elizabethtown, Pennsylvania.
Township of Paradise
Maps available for inspection at the Paradise Township Office, 196 Blackhorse Road, Paradise, Pennsylvania.
Township of Penn
Maps available for inspection at the Penn Township Office, 97 North Penryn Road, Manheim, Pennsylvania.
Township of Pequea
Maps available for inspection at the Pequea Township Office, 1028 Millwood Road, Willow Street, Pennsylvania.
Township of Providence
Maps available for inspection at the Providence Township Office, 200 Mt. Airy Road, New Providence, Pennsylvania.
Township of Rapho
Maps available for inspection at the Rapho Township Office, 971 North Colebrook Road, Manheim, Pennsylvania.
Township of Upper Leacock
Maps available for inspection at the Upper Leacock Township Office, 36 Hillcrest Avenue, Leola, Pennsylvania.
Township of Warwick
Maps available for inspection at the Warwick Township Office, 315 Clay Road, Lititz, Pennsylvania.
Township of West Cocalico
Maps available for inspection at the West Cocalico Township Office, 156 B West Main Street, Reinholds, Pennsylvania.
Township of West Donegal
Maps available for inspection at the West Donegal Township Office, 1 Municipal Drive, Elizabethtown, Pennsylvania.
Township of West Hempfield
Maps available for inspection at the West Hempfield Township Office, 3401 Marietta Avenue, Lancaster, Pennsylvania.
Township of West Lampeter
Maps available for inspection at the West Lampeter Township Office, 852 Village Road, Lampeter, Pennsylvania.
PUERTO RICO
Commonwealth and Municipalities (FEMA Docket No. D-7592)
Rio Guamani:
Approximately 100 meters above the mouth of Caribbean Sea | *3.2
Approximately 0.60 kilometers upstream of Puerto Rico Route 10 | *154.4
Commonwealth of Puerto Rico
Rio de Bayamon:
Approximately 100 meters downstream of Puerto Rico Route 2 | *10.7
Approximately 9.5 kilometers upstream of Puerto Rico Route 174 | *250.6
Commonwealth of Puerto Rico, Municipality of Bayamon
Rio de La Plata (Toa Baja):
Approximately 0.1 kilometer above the confluence with Atlantic Ocean | *3.3
At downstream side of Puerto Rico Route 2 | *11.0
Commonwealth of Puerto Rico
Rio Nigua:
Approximately 400 meters upstream of mouth of Rio Nigua | *3.2
Approximately 5.41 kilometers upstream of Puerto Rico Route 52 | *49.5
Rio Coamo:
Approximately 2.16 kilometers downstream of Puerto Rico Route 1 | *3.0
Approximately 2.15 kilometers upstream of Puerto Rico Route 1 | *20.1
Rio de La Plata (Toa Alta):
At downstream side of Puerto Rico Route 2 | *11.0
Approximately 0.3 kilometer upstream of Puerto Rico Route 824 | *22.0
Rio de La Plata: Overflow:
Approximately 0.79 kilometer downstream of the road to Military Reservation | *2.3
Approximately 0.45 kilometer upstream of Puerto Rico Route 854 | *6.7
Rio Grande:
At the confluence with Espiritu Santo River | *5.0
At the Puerto Rico Route 3 | *6.9
Maps available for inspection at the Puerto Rico Planning Board, Minilas Government Center, North Building, East Diego Avenue, Stop 22, San Juan, Puerto Rico.
Municipality of Bayamon
Maps available for inspection at Carretera #2, Alcaldia de Bayamon, 4to piso Oficina de Ordenacion Territorial, Bayamon, Puerto Rico.

(Catalog of Federal Domestic Assistance No. 83.100, “Flood Insurance”)
Dated: December 8, 2004.
David I. Maurstad,
Acting Director, Mitigation Division, Emergency Preparedness and Response Directorate.

[FR Doc. 04-27619 Filed 12-16-04; 8:45 am]

BILLING CODE 9110-12-P